DEPARTMENT OF EDUCATION

[Docket No.: ED-2025-SCC-0382]

Agency Information Collection Activities; Submission to the Office of Management and Budget for Review and Approval; Comment Request; Integrated Postsecondary Education Data System (IPEDS) 2025-26 Through 2026-27

AGENCY: National Center for Education Statistics (NCES), Institute of Education Sciences (IES), Department of Education (ED).

ACTION: Notice.

SUMMARY: In accordance with the Paperwork Reduction Act (PRA) of 1995, the Department is proposing a revision of a currently approved information collection request (ICR).

DATES: Interested persons are invited to submit comments on or before December 15, 2025.

ADDRESSES: To access and review all the documents related to the information collection listed in this notice, please use https://www.regulations.gov by searching the Docket ID number ED-2025-SCC-0382. Comments submitted in response to this notice should be submitted electronically through the Federal eRulemaking Portal at http://www.regulations.gov by selecting the Docket ID number or via postal mail, commercial delivery, or hand delivery. If the regulations.gov site is not available to the public for any reason, the Department will temporarily accept comments at ICDocketMgr@ed.gov. Please include the docket ID number and the title of the information collection request when requesting documents or submitting comments. Please note that comments submitted after the comment period will not be accepted. Written requests for information or comments submitted by postal mail or delivery should be addressed to the National Center for Education Statistics, Institute of Education Sciences, U.S. Department of Education, 400 Maryland Ave. SW, LBJ, Room 5C133, Washington, DC 20202-1200.

FOR FURTHER INFORMATION CONTACT: For specific questions related to collection activities, please contact Matt Soldner, 202-453-7441.

SUPPLEMENTARY INFORMATION: The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Integrated Postsecondary Education Data System (IPEDS) 2025-26 through 2026-27.

OMB Control Number: 1850-0582.

Type of Review: A revision of a currently approved ICR.

Respondents/Affected Public: Private Sector; State, Local, and Tribal Governments.

Total Estimated Number of Annual Responses: 70,152.

Total Estimated Number of Annual Burden Hours: 750,793.

Abstract: The National Center for Education Statistics (NCES) seeks authorization from OMB to make a change to the Integrated Postsecondary Education Data System (IPEDS) data collection. IPEDS is a web-based data collection system designed to collect basic data from all postsecondary institutions in the United States and the other jurisdictions. The IPEDS data collection enables NCES to report on key dimensions of postsecondary education such as enrollments, degrees and other awards earned, tuition and fees, average net price, student financial aid, graduation rates, student outcomes, revenues and expenditures, faculty salaries, and staff employed. A subset of these elements are disaggregated by race and sex.

In this change, we are requesting to add the new IPEDS “Admissions and Consumer Transparency Supplement” (ACTS) survey component. On August 7, 2025, President Donald J. Trump issued a Presidential Memorandum entitled “Ensuring Transparency in Higher Education Admissions,” available at https://www.whitehouse.gov/presidential-actions/2025/08/ensuring-transparency-in-higher-education-admissions/. In that memorandum, President Trump directed the Secretary of Education to, within 120 days of that date, “expand the scope of required [IPEDS] reporting to provide adequate transparency into admissions.” On that same day, Secretary McMahon issued a directive to NCES to initiate a series of changes to IPEDS during the 2025-26 school year. That directive is available at https://www.ed.gov/media/document/secretary-directive-ensuring-transparency-higher-education-admissions-august-7-2025-110497.pdf.

The data to be collected from ACTS are intended to capture information that could indicate whether institutions of higher education are using race-based preferencing in their admissions processes. To access and review the proposed data elements for the ACTS collection and all other documents related to the information collection listed in this notice, please use https://www.regulations.gov by searching the Docket ID number ED-2025-SCC-0382.

As previously stated in the 60-day notice associated with this proposed change, the ACTS component was expected to be applicable to, at a minimum, all four-year institutions. We posed a Directed Question to the public to seek their feedback on the appropriateness of that determination. Based both upon our initial thinking and public comment, we propose limit eligibilty of ACTS to the four-year sector. We further propose that otherwise eligible institutions that admit 100 percent of their applicants and do not award non-need-based aid be exempted from a given collection year. Responses to our second Directed Question, related to burden, as well as our responses to other comments received in response to the 60-day notice associated with this proposed change, are available. Both can be found at https://www.regulations.gov by searching the Docket ID number ED-2025-SCC-0382.

Ross Santy,
Data Officer, Office of Planning, Evaluation and Policy Development.

[FR Doc. 2025-19874 Filed 11-12-25; 8:45 am]

BILLING CODE 4000-01-P